DEPARTMENT OF ENERGY

Western Area Power Administration

Parker-Davis Project—Notice of Proposed Extension of the Rate Methodology for Firm Power Service and Firm and Nonfirm Transmission Service—Rate Order No. WAPA-98

AGENCY: Western Area Power Administration, DOE.

ACTION: Notice of proposed extension.

SUMMARY: This action is a proposal to extend the existing Parker-Davis Project (P-DP) rate methodology for determining the firm power service rate and the firm and nonfirm point-to-point transmission service rates, Rate Order No. WAPA-75, through September 30, 2004. The existing rate methodology will expire September 30, 2002. This notice of proposed extension of rate methodology is issued pursuant to 10 CFR part 903.23(a)(1). As permitted by 10 CFR part 903.23(a)(2), Western Area Power Administration (Western) will not have a consultation and comment period and will not hold public information and comment forums.

FOR FURTHER INFORMATION CONTACT: Mr. Todd Statler, Financial Analyst, Desert Southwest Customer Service Region, Western Area Power Administration, P.O. Box 6457, Phoenix, AZ 85005-6457, (602) 352-2781, or e-mail statler@wapa.gov.

SUPPLEMENTARY INFORMATION: By Delegation Order No. 00-037.00, effective December 6, 2001, the Secretary of Energy delegated (1) the authority to develop long-term power and transmission rates on a nonexclusive basis to Western's Administrator, (2) the authority to confirm, approve, and place such rates into effect on an interim basis to the Deputy Secretary and (3) the authority to confirm, approve, and place into effect on a final basis, to remand or to disapprove such rates to the Federal Energy Regulatory Commission (FERC).

Pursuant to applicable Delegation Orders and existing Department of Energy (DOE) procedures for public participation in power and transmission rate adjustments in 10 CFR part 903, Western's P-DP rate methodology for firm power service and firm and nonfirm point-to-point transmission service was submitted to FERC for confirmation and approval on November 19, 1997. On March 10, 1998, in Docket No. EF98-5041-000, at 82 FERC ¶ 62,164, FERC issued an order confirming, approving, and placing in effect on a final basis the P-DP rate methodology for firm power service and firm and nonfirm point-to-point transmission service. The rate methodology set forth in Rate Order No. WAPA-75 was approved for the period beginning November 1, 1997, and ending September 30, 2002.

On September 30, 2002, Western's P-DP rate methodology for firm power service and firm and nonfirm point-to-point transmission service will expire. Western proposes to extend the current rate methodology pursuant to 10 CFR part 903. Upon its approval, Rate Order No. WAPA-75 will be extended under Rate Order No. WAPA-98.

Western proposes to extend the existing P-DP rate methodology used each Fiscal Year (FY) to calculate the firm power service rates for capacity and energy (Rate Schedule PD-F6), the firm point-to-point transmission service rate (Rate Schedule PD-FT6), the firm point-to-point transmission service rate for Salt Lake City Area Integrated Projects Power (Rate Schedule PD-FCT6) and the nonfirm point-to-point transmission service rate (Rate Schedule PD-NFT6). This existing rate methodology ensures rates are set to collect annual revenues sufficient to recover annual expenses (including interest) and capital requirements, thus ensuring repayment of the project within the cost-recovery criteria set forth in DOE Order RA 6120.2. Under the existing rate methodology, the revenue requirements for generation and transmission are determined annually based on FY projections in the cost apportionment study. The cost apportionment study allocates all P-DP expenses and other revenues between generation and transmission. The revenue requirement for generation determines the amount of funds to collect through firm power service rates for capacity and energy. Similarly, the revenue requirement for transmission determines the amount of funds to collect through firm point-to-point transmission service rates.

During this extension period of the existing rate methodology, Western will initiate a rate adjustment process in accordance with procedures for public participation in power and transmission rate adjustments in 10 CFR part 903. Western anticipates this rate adjustment process to begin when audited financial data for FY 2001 and FY 2002 becomes available. In the meantime, Western will continue to conduct informal customer meetings to ensure involvement of interested parties in the rate process.

All documents made or kept by Western for developing the proposed extension of the P-DP rate methodology for firm power service and firm and nonfirm point-to-point transmission service will be made available for inspection and copying at the Desert Southwest Customer Service Region, located at 615 South 43rd Avenue, Phoenix, Arizona.

Within 90 days after publication of this notice, Rate Order No. WAPA-98 will be submitted to the Deputy Secretary for approval through September 30, 2004.

Dated: April 30, 2002.
Michael S. Hacskaylo,
Administrator.

[FR Doc. 02-12100 Filed 5-14-02; 8:45 am]

BILLING CODE 6450-01-P